DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Single Grant Application Form for Consolidated Community Health Centers—In Use Without Approval

The Consolidated Health Center Program is administered by the Health Resources and Services Administration's (HRSA) Bureau of Primary Health Care (BPHC). Grant funding opportunities are provided for existing Health Centers for continuation funding. The single grant application form has been designed for existing grantees to apply for continuation funding from one or more of the following BPHC program funding sources authorized under section 330 and 301 of the Public Health Service (PHS) Act: Community Health Centers (CHC), Migrant Health Centers (MHC), Health Care for the Homeless(HCH), Public Housing Primary Care (PHPC), School Based Health (aka HSHC), and/or Pacfic Basin.

Estimates of annualized reporting burden are as follows:

Type of application form | Number of respondents | Hours per response | Total burden hours
Single Grant Application | 225 | 100 | 22,500

Send comments to Susan G. Queen, Ph.D., HRSA Reports Clearance Officer, Room 14-45, Parklawn Building, 5600 Fishers Lane, Rockville, MD 20857. Written comments should be received within 60 days of this notice.

Dated: December 23, 2003.
Tina M. Cheatham,
Acting Director, Division of Policy Review and Coordination.

[FR Doc. 03-32162 Filed 12-30-03; 8:45 am]

BILLING CODE 4165-15-P